DEPARTMENT OF TRANSPORTATION

Federal Aviation Administration

Proposed Changes to Advisory Circular 27-1B, Certification of Normal Category Rotorcraft, and Advisory Circular 29-2C, Certification of Transport Category Rotorcraft

AGENCY: Federal Aviation Administration (FAA), DOT.

ACTION: Notice of availability of Advisory Circular (AC) proposal changes; request for comments.

SUMMARY: This notice announces the availability of proposed changes, request for comments, to AC 27-1B, Certification of Normal Category Rotorcraft, and AC 29-2C, Certification of Transport Category Rotorcraft. The proposed changes contain guidance material to bring the AC's up to date with the most recent amendments to 14 Code of Federal Regulations (CFR) parts 27 and 29 and/or current practices. There are 23 paragraph changes proposed for AC 27-1B, and 21 paragraph changes proposed for AC 29-2C.

DATES: Any comments must identify Proposed Changes to AC 27-1B, or Proposed Changes to AC 29-2C, and must be received by September 28, 2001.

ADDRESSES: Any comments can be submitted to FAA, Rotorcraft Standards Staff, ASW-110, Rotorcraft Directorate, Aircraft Certification Service, Forth Worth, Texas 76193-0110, or via electronic mail to Kathy.L.Jones@FAA.GOV.

FOR FURTHER INFORMATION CONTACT: Kathy L. Jones, Rotorcraft Standards Staff, FAA, Rotorcraft Directorate, Aircraft Certifications Service, Fort Worth, TX 76193-0110; telephone (817) 222-5359; fax (817) 222-5961; email: Kathy.L.Jones@FAA.GOV.

SUPPLEMENTARY INFORMATION: This notice announces the availability of proposed changes; request for comments. These proposed changes have been reviewed and commended on by representatives from U.S. industry, European industry, U.S. authorities, and European authorities. Any interested person not receiving these proposed changes may obtain a copy by contacting the person named under the caption FOR FURTHER INFORMATION CONTACT. Copies of these proposed changes may be obtained also from the FAA website www.faa.gov/avr/air/asw/rotor.htm.

Interested persons can submit comments on these proposed changes. Comments received may be inspected at the office of the Rotorcraft Standards Staff, FAA, 4th floor, 2601 Meacham Boulevard, Fort Worth, Texas.

Issued in Fort Worth, Texas, on July 20, 2001.
Michele M. Owsley,
Acting Manager, Rotorcraft Directorate, Aircraft Certification Service.

[FR Doc. 01-18675 Filed 7-25-01; 8:45 am]

BILLING CODE 4910-13-M